DEPARTMENT OF COMMERCE

International Trade Administration

[A-580-825]

Oil Country Tubular Goods, Other Than Drill Pipe, from Korea: Final Results of New Shipper Review and Antidumping Duty Administrative Review

AGENCY: Import Administration, International Trade Administration, U.S. Department of Commerce.

SUMMARY: On September 11, 2002, the Department of Commerce (the Department) published the preliminary results of its new shipper review and administrative review of the antidumping duty order on oil country tubular goods, other than drill pipe (OCTG) from Korea. See Oil Country Tubular Goods, Other Than Drill Pipe, From Korea: Preliminary Results of New Shipper Review and Antidumping Duty Administrative Review, and Rescission, in Part, of the Antidumping Duty Administrative Review, 67 FR 57570 (September 11, 2002) (Preliminary Results). The new shipper review covers Shinho Steel Co., Ltd. (Shinho Steel) for the period August 1, 2000 through February 28, 2001. The administrative review covers SeAH Steel Corporation (SeAH) for the period August 1, 2000 through July 31, 2001. We gave interested parties an opportunity to comment on our Preliminary Results. The final results are listed below in the sections entitled “Final Results of Administrative Review” and “Final Results of New Shipper Review.”

EFFECTIVE DATE: January 16, 2003.

FOR FURTHER INFORMATION CONTACT: Thomas Gilgunn at (202) 482-4236, Import Administration, International Trade Administration, U.S. Department of Commerce, 14th Street and Constitution Avenue, NW., Washington, DC 20230.

SUPPLEMENTARY INFORMATION:

Background

On August 11, 1995, the Department published in the Federal Register an antidumping duty order on OCTG from Korea (60 FR 41058). The antidumping duty order on OCTG from Korea has an August anniversary date and a February semi-annual anniversary date. On February 28, 2001, Shinho Steel requested a new shipper review for the period August 1, 2000 through February 28, 2001. (At Shinho Steel's request, we extended the standard six month period seven months to cover the customs entry.) On August 31, 2001, Shinho Steel also requested an administrative review to cover the period March 1, 2001 through July 31, 2001. Shinho Steel withdrew its request for an administrative review for the period March 1, 2001 through July 31, 2001 on October 2, 2001. On January 22, 2002, Shinho Steel waived the time limits applicable to its new shipper review so that the Department might conduct its new shipper review concurrently with the 2000/2001 administrative review of OCTG from Korea.

On September 11, 2002, the Department published its preliminary results for the new shipper review of Shinho Steel and administrative review of SeAH and rescinded its administrative review of Shinho Steel for the period March 1, 2001 through July 31, 2001. The rescission was based on the fact that Shinho Steel had no sales other than those analyzed in the new shipper review. See Oil Country Tubular Goods, Other Than Drill Pipe, From Korea: Preliminary Results of New Shipper Review and Antidumping Duty Administrative Review, and Rescission, in Part, of the Antidumping Duty Administrative Review, 67 FR 57570 (September 11, 2002) (Preliminary Results).

In the Preliminary Results, the Department also stated that a changed circumstances review addressing Shinho Steel's decision to legally change its name to Husteel was being conducted under another antidumping duty order (Certain Circular Welded Non-Alloy Steel Pipe from Korea (A-580-809)). The Department has since completed that changed circumstances review and found that Husteel is the “successor-in-interest” to Shinho Steel for antidumping duty cash deposit purposes and that Husteel would be assigned the same cash deposit rate with respect to the subject merchandise as the predecessor company, Shinho Steel. See Certain Circular Welded Non-Alloy Steel Pipe from the Republic of Korea; Final Results of Changed Circumstances Review, 67 FR 69716, (November 19, 2002). Therefore, Husteel will be assigned the same cash deposit rate with respect to the subject merchandise as Shinho Steel, the predecessor company. This cash deposit requirement will be effective upon publication of these final results.

Scope of the Antidumping Duty Order

The products covered by this order are oil country tubular goods (“OCTG”), hollow steel products of circular cross-section, including only oil well casing and tubing, of iron (other than cast iron) or steel (both carbon and alloy), whether seamless or welded, whether or not conforming to American Petroleum Institute (“API”) or non-API specifications, whether finished or unfinished (including green tubes and limited service OCTG products). This scope does not cover casing or tubing pipe containing 10.5 percent or more of chromium, or drill pipe. The products subject to this order are currently classified in the Harmonized Tariff Schedule of the United States (“HTSUS”) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The HTSUS item numbers are provided for convenience and Customs purposes. The written description remains dispositive of the scope of this review.

Analysis of Comments Received

All issues raised in the briefs filed by parties to this administrative review are addressed in the Memorandum from Joseph A. Spetrini, Deputy Assistant Secretary for AD/CVD Enforcement Group III, to Faryar Shirzad, Assistant Secretary for Import Administration: Issues and Decision Memorandum for the New Shipper Review and the Administrative Review of Oil Country Tubular Goods, Other Than Drill Pipe, From Korea dated January 9, 2003 (Decision Memo), which is hereby adopted by this notice.

A list of the issues which parties have raised and to which we have responded, all of which are in the Decision Memo, is attached to this notice as an appendix. Parties can find a complete discussion of all issues raised in this review and the corresponding recommendations in this public memorandum, which is on file in the Central Records Unit, room B-099 of the main Commerce Building. In addition, a complete version of the Decision Memo can be accessed directly on the Internet at http://ia.ita.doc.gov. The paper copy and electronic version of the Decision Memo are identical in content.

Changes Since the Preliminary Results

Based on our analysis of comments received, we have made one change in the margin calculation for SeAH. We have removed from our calculation of normal value a deduction for foreign inventory carrying costs (DINVCARU). For a discussion of this issue, please refer to the Decision Memo at Comment 2.

Final Results of Administrative Review

We determine that the following weighted-average margin exists for the period August 1, 2000, through July 31, 2001:

Manufacturer/Exporter | Margin (percent)
SeAH Steel Corporation | 0.32

Final Results of New Shipper Review

We determine that the following weighted-average margin exists for the period August 1, 2000 through February 28, 2001:

Manufacturer and Exporter | Margin (percent)
Shinho Steel Corporation/Husteel | 0.00

Assessment Rates

The Department shall determine, and the Customs Service shall assess, antidumping duties on all appropriate entries. We have calculated importer-specific ad valorem assessment rates for SeAH based on entered values. We will direct the Customs Service to assess the ad valorem assessment rate against the entered customs value for each entry of subject merchandise from SeAH during the review period. Since the dumping margin for Shinho Steel/Husteel is zero, no duties will be assessed on entries pursuant to the reviewed sales. The Department will issue appropriate appraisement instructions directly to the Customs Service within 15 days of publication of the final results of review. For customs purposes only, this case is identified using case number A-580-215.

Cash Deposit Requirements

The following deposit requirements shall be effective for all shipments of the subject merchandise from Korea that are entered, or withdrawn from warehouse, for consumption on or after the publication date of the final results of this administrative review and the new shipper review, as provided for by section 751(a)(1) of the Act. Since the weighted-average margin for SeAH is less than 0.5 percent and therefore de minimis, the Department shall require no deposit of estimated antidumping duties for subject merchandise exported by SeAH. Since the weighted-average margin for Shinho Steel/Husteel is less than 0.5 percent and therefore de minimis, the Department shall require no deposit of estimated antidumping duties for subject merchandise produced and exported by Shinho Steel/Husteel. For subject merchandise exported by Shinho Steel/Husteel but not produced by Shinho Steel/Husteel, the cash deposit rate will be the “all others” rate. Bonding will no longer be permitted to fulfill security requirements for shipments from Shinho Steel/Husteel of subject merchandise from Korea entered, or withdrawn from warehouse. For previously investigated or reviewed companies not listed above, the cash deposit rate will continue to be the company-specific rate published for the most recent period. If the exporter is not a firm covered in this review, or the original investigation, but the manufacturer is, the cash deposit rate will be the rate established for the most recent period for the manufacturer of the merchandise. The cash deposit rate for all other manufacturers or exporters of this merchandise will continue to be 12.17 percent, the all others rate made effective by the less-than-fair-value investigation. These requirements, when imposed, shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

These final results of administrative review and new shipper review and notice are issued and published in accordance with sections 751(a)(1) of the Act (19 U.S.C. 1675(a)(1)) and 19 CFR 351.213 and 19 CFR 351.221(b)(5).

Dated: January 9, 2003.
Faryar Shirzad,
Assistant Secretary for Import Administration.

Appendix

List of Issues

1. Freight Revenue and Constructed Export Price (CEP)

2. Indirect Selling Expenses in Korea

3. Cash Deposit Instructions for Husteel

4. Liquidation of Shinho Steel/Husteel's Entries

[FR Doc. 03-984 Filed 1-15-03; 8:45 am]

BILLING CODE 3510-DS-P